DEPARTMENT OF ENERGY

[FE Docket Nos. 04-71-NG, 04-72-NG, 04-68-NG, 04-73-NG, 04-74-NG]

Office of Fossil Energy; Mexicana de Cobre, S.A. de C.V., Sacramento Municipal Utility District, Sprague Energy Group, Empire Natural Gas Corporation, Marathon Oil Company; Orders Granting and Amending Authority to Import and Export Natural Gas

AGENCY: Office of Fossil Energy, DOE.

ACTION: Notice of orders.

SUMMARY: The Office of Fossil Energy (FE) of the Department of Energy gives notice that during July 2004, it issued Orders granting authority to import and export natural gas. These Orders are summarized in the attached appendix and may be found on the FE Web site at http://www.fe.doe.gov (select gas regulation). They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on August 19th 2004.
Sally Kornfeld,
Manager, Natural Gas Regulation Office of Natural Gas & Petroleum Import & Export Activities, Office of Fossil Energy.

Appendix—Orders Granting Import/Export Authorizations

DOE/FE Authority
Order No. | Date issued | Importer/exporter FE Docket No. | Import volume (Bef) | Export volume (Bef) | Comments
2002 | 7-1-04 | Mexicana de Cobre S.A. de C.V. 04-71-NG |  | 17.52 | Export natural gas to Mexico, beginning on April 27, 2003, and extending through April 26, 2005.
2003 | 7-1-04 | Sacramento Municipal Utility District 04-72-NG | 50 |  | Import natural gas from Canada, beginning on July 1, 2004, and extending through June 30, 2006.
2004 | 7-9-04 | Sprague Energy Corp. 04-68-NG | 50 |  | Import natural gas from Canada, beginning on January 1, 2003, and extending through December 31, 2004.
2005 | 7-15-04 | Empire Natural Gas Corporation 04-73-NG | 4 |  | Import natural gas from Canada, beginning on July 15, 2004, and extending through July 14, 2006.
2006 | 7-29-04 | Marathon Oil Company 04-74-NG | 100 |  | Import and export natural gas from and to Canada and Mexico, beginning on August 1, 2004, and extending through July 31, 2006.

[FR Doc. 04-19666 Filed 8-27-04; 8:45 am]

BILLING CODE 6450-01-P